DEPARTMENT OF TRANSPORTATION

Pipeline and Hazardous Materials Safety Administration

[Docket No. PHMSA-2013-0097]

Pipeline Safety: Reminder of Requirements for Liquefied Petroleum Gas and Utility Liquefied Petroleum Gas Pipeline Systems

AGENCY: Pipeline and Hazardous Materials Safety Administration (PHMSA); DOT.

ACTION: Notice; Correction of Advisory Bulletin.

SUMMARY: PHMSA published an Advisory Bulletin in the Federal Register on July 18, 2013, (78 FR 42889) reminding owners and operators of liquefied petroleum gas (LPG) and utility liquefied petroleum gas (Utility LP-Gas) plants of their obligation to follow certain sections of Part 192 in addition to the American National Standards Institute/National Fire Protection Association (ANSI/NFPA) standards 58 or 59. This document supersedes the July 18, 2013, Advisory Bulletin by correcting a typographical error in the sixth bullet and removing the exemption for small utility LP gas systems from Subpart N (Qualification of Pipeline Personnel) from the bulleted list.

FOR FURTHER INFORMATION CONTACT: Todd DelVecchio by phone at 727-213-1575 or by email at todd.delvecchio@dot.gov, or Mike Israni at 202-366-4571 or by email at mike.israni@dot.gov. Information about PHMSA may be found at http://phmsa.dot.gov.

SUPPLEMENTARY INFORMATION:

I. Background

49 CFR 192.11 requires that each plant that supplies petroleum gas by pipeline to a natural gas distribution system must meet the requirements of Part 192 and ANSI/NFPA 58 and 59 (2004) (192.11(a)). It also states that each pipeline system subject to Part 192 that transports only petroleum gas or petroleum gas/air mixtures must meet the requirements of Part 192 and of ANSI/NFPA 58 and 59 (192.11(b)). Finally, the regulation lays out a primacy provision stating that in the event of a conflict between the regulation and the standard, ANSI/NFPA 58 and 59 prevail (192.11(c)). However, this primacy provision does not excuse operators from following Part 192 requirements. For instance, when ANSI/NFPA 58 or 59 (2004) does not address a specific subject, then no conflict has occurred and the operator must follow Part 192 requirements.

At the time the primacy provision was added to the regulations in 1996, the standards took advantage of more current petroleum gas transportation technology and safety practices. In a July 22, 2009, (74 FR 36139) Notice of Proposed Rulemaking (NPRM), PHMSA proposed changing this primacy provision. PHMSA proposed changing this provision because the new NFPA standards issued in 2008 had many conflicts with Part 192 and PHMSA had noticed that operators were misinterpreting § 192.11(c). In response to the NPRM, commenters objected to the change suggesting it would result in unanticipated safety consequences. PHMSA did not take any action at the final rule stage but in the future, PHMSA may undertake a rulemaking to address this issue. This Advisory Bulletin serves to remind owners and operators of petroleum gas systems that they must continue to comply with certain requirements of Part 192.

II. Advisory Bulletin (ADB-2013-03)

To: Owners and Operators of LPG and Utility LP-Gas Plants.

Subject: Applicability of Part 192 to Owners and Operators of LPG and Utility LP-Gas Plants.

Advisory: When ANSI/NFPA 58 or 59 (2004) does not address a specific subject, then a conflict has not occurred and the operator must follow Part 192 requirements. Part 192 covers areas that are not addressed in ANSI/NFPA 58 or 59 (2004). These areas include:

• Inspection requirements for distribution mains (§§ 192.305 and 192.307).

• Backfill requirements for installing pipe in a ditch (§ 192.319).

• Underground pipe clearance requirements (§ 192.325).

• Valve requirements for service lines (§§ 192.363 and 192.365).

• Continuing surveillance (§ 192.613).

• Public awareness (§ 192.616).

• Operator qualification (Subpart N)

• Distribution Pipeline Integrity Management (Subpart P).

While not intended to be an exhaustive list, the following table highlights various requirements of Part 192 that are not addressed by ANSI/NFPA 58 and 59 (2004). Because ANSI/NPFA 58 and 59 (2004) do not have specific language on these topics, there is no conflict and therefore, Part 192 applies in these areas.

Applicable Sections of Part 192 in Addition to the Requirements of NFPA 58 and 59 (2004)
Section | Title
Subpart G—General Construction Requirements for Transmission Lines and Mains
192.305 | Inspection: General.
192.307 | Inspection of materials.
192.319 | Installation of pipe in a ditch.
192.323 | Casing.
192.325 | Underground clearance.
Subpart H—Customer Meters, Service Regulators, and Service Lines
192.363 | Service lines: Valve requirements.
192.365 | Service lines: Location of valves.
Subpart L—Operations
192.613 | Continuing Surveillance.
192.614 | Damage Prevention Program.
192.615 | Emergency Plans.
192.616 | Public Awareness.
Subpart N—Qualification of Pipeline Personnel
The entire Part 192 subpart would apply with the exception of § 192.805(h). NFPA 58 and 59 do not address any of the operator qualification and testing requirements. Therefore, owners and operators of LPG and Utility LP-Gas Plants would be required to meet the training requirements under the NFPA standard and the operator qualification and testing requirements under Part 192.
Subpart P—Distribution Pipeline Integrity Management (IM)
This Part 192 subpart would apply in its entirety; NFPA 58 does not address any requirements of this subpart.

Issued in Washington, DC, on October 25, 2013.
Alan K. Mayberry,
Deputy Associate Administrator for Policy and Programs.

[FR Doc. 2013-25837 Filed 10-30-13; 8:45 am]

BILLING CODE 4910-60-P